DEPARTMENT OF ENERGY

Federal Energy Regulatory Commission

[Docket No. RP01-221-000]

Great Lakes Gas Transmission Limited Partnership; Notice of Transporter Report

February 7, 2001.

Take notice that on January 31, 2001, Great Lakes Gas Transmission Limited Partnership (Great Lakes) as required under Section 4.3 of Rage Schedules FT and IT of its FERC Gas Tariff, Second Revised Volume No. 1, tendered for filing its supporting calculations underlying Great Lakes' Transporter's Use percentages applicable during the six-month period from July 1, 2000 through December 31, 2000.

Great Lakes states that copies of the filing are being served upon each of Great Lakes' firm customers and the Public Service Commission of the States of Minnesota, Wisconsin, and Michigan.

Any person desiring to be heard or to protest said filing should file a motion to intervene or a protest with the Federal Energy Regulatory Commission, 888 First Street, NE., Washington, DC 20426, in accordance with Sections 305.214 or 385.211 of the Commission's Rules and Regulations. All such motions or protests must be filed on or before February 14, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 308.2001(a)(1)(iii) and the instructions on the Commission's web site at http://www.ferc.fed.us/efi/doorbell.htm.

David P. Boergers,
Secretary.

[FR Doc. 01-3581 Filed 2-12-01; 8:45 am]

BILLING CODE 6717-01-M